DEPARTMENT OF DEFENSE

Office of the Secretary

[Transmittal No. 21-61]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-61 with attached Policy Justification and Sensitivity of Technology.

Dated: March 27, 2023.
Aaron T. Siegel,
Alternate OSD Federal Register Liaison Officer, Department of Defense.

BILLING CODE 5001-06-P

BILLING CODE 5001-06-C

Transmittal No. 21-61

Notice of Proposed Issuance of Letter of Offer Pursuant to Section 36(b)(1) of the Arms Export Control Act, as amended

(i) Prospective Purchaser: Government of Australia

(ii) Total Estimated Value:

Major Defense Equipment * | $665 million
Other | $320 million
TOTAL | $985 million

(iii) Description and Quantity or Quantities of Articles or Services under Consideration for Purchase:

Major Defense Equipment (MDE):

Twelve (12) MH-60R Multi-Mission Helicopters

Thirty (30) T-700-GE-401C Engines (24 installed, 6 spares)

Twelve (12) APS-153(V) Multi-Mode Radars (installed)

Twelve (12) AN/AAS-44C(V) Multi-Spectral Targeting Systems (installed)

Thirty-four (34) Embedded Global Positioning System/Precise Positioning Service (GPS/PPS)/Inertial Navigation Systems (EGI) with Selective Availability/Anti-Spoofing Module (SAASM) (24 installed, 10 spares)

Twenty (20) Link 16 Multifunctional Information Distribution Systems (MIDS)—Joint Tactical Radio System (JTRS) (12 installed, 8 spares)

Twelve (12) GAU-61 Digital Rocket Launchers (aircraft provisions only)

Twelve (12) Airborne Low Frequency Sonars (ALFS) (aircraft provisions only)

Eighteen (18) AN/AAR-47 Missile Warning Systems (12 installed, 6 spares)

Eighteen (18) AN/ALE-47 Chaff and Flare Dispenser, Electronic Countermeasures (12 installed, 6 spares)

Twelve (12) AN/ALQ-210 Electronic Support Measures (ESM) Systems (installed)

Twenty-four (24) M299 Missile Launchers

Twelve (12) GAU-21 Crew Served Guns aircraft provisions (installed, includes aircraft adapter, ammunition bin, and other accessories)

Twelve (12) M240D Crew Served Gun Cradles (installed)

Eighteen (18) AN/ARQ-59 Hawklink Radio Terminals (12 installed, 6 spares)

Non-MDE:

Also included are AN/ARC-210 RT-2036 UHF/VHF radios with Communications Security (COMSEC); AN/APX-123 Identification Friend or Foe (IFF) transponders; KIV-78; KIV-6; KOV-21; KGV-135A; Advanced Data Transfer Systems (ADTS); Airborne Low Frequency Sonars (ALFS) Training Simulators/Operational Machine Interface Assistants (ATS OMIA); spare engine containers; trade studies with industry to determine the feasibility and cost of implementing provisions for additional passenger seating and modifications to achieve enhanced crew survivability; defense services; spare and repair parts; support and test equipment; communication equipment; ferry support; publications and technical documentation; personnel training and training equipment; United States (U.S.) Government and contractor engineering, technical, and logistics support services; obsolescence engineering, integration, and test activities required to ensure readiness for the production of the Australian MH-60R helicopters; and other related elements of programmatic, technical and logistics support.

(iv) Military Department: Navy (AT-P-SCO)

(v) Prior Related Cases, if any: AT-P-SCF, AT-P-GXO, AT-P-KOA, AT-P-KOB, AT-P-REZ

(vi) Sales Commission, Fee, etc., Paid, Offered, or Agreed to be Paid: None

(vii) Sensitivity of Technology Contained in the Defense Article or Defense Services Proposed to be Sold: See Attached Annex

(viii) Date Report Delivered to Congress: October 8, 2021

* As defined in Section 47(6) of the Arms Export Control Act.

POLICY JUSTIFICATION

Australia—MH-60R Multi-Mission Helicopters and Related Defense Services

The Government of Australia has requested to buy twelve (12) MH-60R Multi-Mission helicopters; thirty (30) T-700-GE-401C engines (24 installed, 6 spares); twelve (12) APS-153(V) Multi-Mode Radars (installed); twelve (12) AN/AAS-44C(V) Multi-Spectral Targeting Systems (installed); thirty-four (34) Embedded Global Positioning System/Precise Positioning Service (GPS/PPS)/Inertial Navigation Systems (EGI) with Selective Availability/Anti-Spoofing Module (SAASM) (24 installed, 10 spares); twenty (20) Link 16 Multifunctional Information Distribution Systems (MIDS)—Joint Tactical Radio System (JTRS) (12 installed, 8 spares); twelve (12) GAU-61 Digital Rocket Launchers (aircraft provisions only); twelve (12) Airborne Low Frequency Sonars (ALFS) (aircraft provisions only); eighteen (18) AN/AAR-47 Missile Warning Systems (12 installed, 6 spares); eighteen (18) AN/ALE-47 Chaff and Flare Dispenser, Electronic Countermeasures (12 installed, 6 spares); twelve (12) AN/ALQ-210 Electronic Support Measures (ESM) Systems (installed); twenty-four (24) M299 Missile Launchers; twelve (12) GAU-21 Crew Served Guns aircraft provisions (installed, includes aircraft adapter, ammunition bin, and other accessories); twelve (12) M240D Crew Served Gun Cradles (installed); and eighteen (18) AN/ARQ-59 Hawklink Radio Terminals (12 installed, 6 spares). Also included are AN/ARC-210 RT-2036 UHF/VHF radios with Communications Security (COMSEC); AN/APX-123 Identification Friend or Foe (IFF) transponders; KIV-78; KIV-6; KOV-21; KGV-135A; Advanced Data Transfer Systems (ADTS); Airborne Low Frequency Sonars (ALFS) Training Simulators/Operational Machine Interface Assistants (ATS OMIA); spare engine containers; trade studies with industry to determine the feasibility and cost of implementing provisions for additional passenger seating and modifications to achieve enhanced crew survivability; defense services; spare and repair parts; support and test equipment; communication equipment; ferry support; publications and technical documentation; personnel training and training equipment; United States (U.S.) Government and contractor engineering, technical, and logistics support services; obsolescence engineering, integration, and test activities required to ensure readiness for the production of the Australian MH-60R helicopters; and other related elements of programmatic, technical and logistics support. The total estimated value is $985 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

This proposed sale will improve Australia's capability to perform anti-surface and anti-submarine warfare missions along with the ability to perform secondary missions including vertical replenishment, search and rescue, and communications relay. Australia will use the enhanced capability as a deterrent to regional threats and to strengthen its homeland defense. Australia will have no difficulty absorbing this equipment into its armed forces.

The proposed sale of this equipment will not alter the basic military balance in the region.

The principal U.S. contractor will be Lockheed Martin Rotary and Mission Systems, Owego, NY. There are no known offset agreements proposed in connection with this potential sale.

Implementation of the proposed sale will require U.S. Government and contractor personnel to visit Australia on a temporary basis in conjunction with program technical oversight and support requirements, including program and technical reviews.

There will be no adverse impact on U.S. defense readiness as a result of this proposed sale.

Transmittal No. 21-61

Notice of Proposed Issuance of Letter of Offer Pursuant to Section 36(b)(1) of the Arms Export Control Act

Annex

Item No. vii

(vii) Sensitivity of Technology:

1. The MH-60R Multi-Mission Helicopter is employed primarily for anti-submarine and anti-surface warfare missions. The MH-60R carries several sensors and data links to enhance its ability to work in a network-centric battle group and as an extension of its home ship/main operating base. The mission systems consist of the following sensors and subsystems: an acoustics system consisting of a dipping sonar, sonobuoys, and acoustics processor; Multi-Mode Radar (MMR) with integrated Identification Friend or Foe (IFF) interrogator; Radios with COMSEC; Electronic Support Measures (ESM); Integrated Self-Defense (ISD); and Multi-Spectral Targeting System (MTS).

a. GPS/PPS/SAASM—Global Positioning System provides a space-based Global Navigation Satellite System (GNSS) that has reliable location and time information in all weather and at all times and anywhere on or near the earth when and where there is an unobstructed line of sight to four or more OPS satellites. Selective Availability/Anti-Spoofing Module (SAASM) is used by military OPS receivers to allow decryption of precision OPS coordinates. In addition, the OPS Antenna System (GAS-I) provides protection from enemy manipulation of the OPS system.

b. The AN/APS-153 multi-mode radar with an integrated IFF and Inverse Synthetic Aperture (ISAR) provides target surveillance/detection capability.

c. The AN/ALQ-210 (ESM) system identifies the location of an emitter. The ability of the system to identify specific emitters depends on the data provided.

d. The AN/AAS-44C(V) Multi-spectral Targeting System (MTS) operates in day/night and adverse weather conditions. Imagery is provided by a Forward-Looking Infrared (FLIR) sensor, a color/monochrome day television (DTV) camera, and a Low-Light TV (LLTV).

e. Ultra High Frequency/Very High Frequency (UHF/VHF) Radios (ARC 210) contain embedded sensitive encryption algorithms and keying material.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense services listed in this transmittal have been authorized for release and export to the Government of Australia.

[FR Doc. 2023-06627 Filed 3-29-23; 8:45 am]

BILLING CODE 5001-06-P